DEPARTMENT OF HOUSING AND URBAN DEVELOPMENT

[FR-5641-D-01]

Redelegation of Authority for the Office of Policy Development and Research

AGENCY: Office of the Assistant Secretary for Policy Development and Research, HUD.

ACTION: Notice of redelegation of authority.

SUMMARY: Section 7(d) of the Department of Housing and Urban Development Act, as amended, authorizes the Secretary of HUD to delegate functions, powers, and duties as the Secretary deems necessary. On August 30, 2011, at 76 FR 53934, the Secretary delegated authority over the Department's research agenda to the Assistant Secretary for Policy Development and Research and authorized the Assistant Secretary for Policy Development and Research the authority to redelegate all such authority, except for the authority to issue and waive regulations. In this notice, the Assistant Secretary for Policy Development and Research redelegates all authority to the General Deputy Assistant Secretary for Policy Development and Research and the Deputy Assistant Secretary for Policy Development, with the exception of the authority to issue and waive regulations.

DATES: Effective Date: May 11, 2012.

FOR FURTHER INFORMATION CONTACT: Jean Lin Pao, General Deputy Assistant Secretary, Office of Policy Development and Research, Department of Housing and Urban Development, 451 7th Street SW., Room 8228, Washington, DC 20410-6000, telephone (202) 708-1600. (This is not a toll-free number.) Persons with hearing or speech impairments may access this number through TTY by calling the toll-free Federal Information Relay Service at 1-800-877-8339.

SUPPLEMENTARY INFORMATION:

Section A. Authority

The Assistant Secretary for Policy Development and Research hereby redelegates all authority delegated to him by the Secretary on August 30, 2011, at 76 FR 53934, to the General Deputy Assistant Secretary for Policy Development and Research and the Deputy Assistant Secretary for Policy Development, with the exception of the authority in Section B below.

Section B. Authority Excepted

The authority delegated in this document does not include the authority to issue and waive regulations.

Section C. Authority To Redelegate

The General Deputy Assistant Secretary for Policy Development and Research and the Deputy Assistant Secretary for Policy Development are authorized to redelegate to employees of HUD any of the authority redelegated to them in this notice.

Authority: Section 7(d), Department of Housing and Urban Development Act (42 U.S.C. 3535(d)).

Dated: May 11, 2012.
Raphael W. Bostic,
Assistant Secretary for Policy Development and Research.

[FR Doc. 2012-12142 Filed 5-17-12; 8:45 am]

BILLING CODE 4210-67-P